DEPARTMENT OF EDUCATION

National Assessment Governing Board; Meeting

AGENCY: National Assessment Governing Board; Education.

ACTION: Notice of full board meeting.

SUMMARY: This notice sets forth the schedule and proposed agenda of a forthcoming meeting of the National Assessment Governing Board. This notice also describes the functions of the Board. Notice of this meeting is required under section 10(a)(2) of the Federal Advisory Committee Act. This document is intended to notify the general public of their opportunity to attend.

Individuals who will need accommodations for a disability in order to attend the meeting (i.e. interpreting services, assistive listening devices, materials in alternative format) should notify Munira Mwalimu at 202-357-6938 or at Munira.Mwalimu@ed.gov no later than May 31, 2001. We will attempt to meet requests after this date, but cannot guarantee availability of the requested accommodation. The meeting site is accessible to individuals with disabilities.

Date: June 28, 2001.

Time: June 28—Full Board Meeting 8:30 a.m. to 3 p.m.

Location: Westin Galleria Hotel, 5060 West Alabama, Houston, Texas

FOR FURTHER INFORMATION CONTACT: Munira Mwalimu, Operations Officer, National Assessment Governing Board, 800 North Capitol Street, NW., Suite 825, Washington, DC, 20002-4233, Telephone: (202) 357-6938.

SUPPLEMENTARY INFORMATION: The National Assessment Governing Board is established under section 412 of the National Educational Statistics Act of 1994 (Title IV of the Improving America's Schools Act of 1994) (Pub. L. 103-382).

The Board is established to formulate policy guidelines for the National Assessment of Educational Progress. The Board is responsible for selecting subject areas to be assessed, developing assessment objectives, identifying appropriate achievement goals for each grade and subject tested, and establishing standards and procedures for interstate and national comparisons.

The meeting will commence at 8:30 a.m. with opening remarks, and review and approval of the meeting agenda. From 9 a.m. to 12 noon, the Board will discuss and take action on recommendations of the Committee on Standards, Design, and Methodology (COSDAM) on the NAEP design. From 12 noon to 1 p.m. the Board will receive an update on NAEP related Congressional activities. From 1:00 to 2:00 p.m., the Board will discuss COSDAM's recommendations on the NAEP 2002 Field Test. A general discussion of President Bush's “No Child Left Behind” initiative will take place between 2 p.m. and 3 p.m., upon which time the meeting will adjourn.

Summaries of the activities of the Board's open sessions, which are informative to the public and consistent with the policy of section 5 U.S.C. 552b(c), will be available to the public within 14 days of the meeting. Records are kept of all Board proceedings and are available for public inspection at the U.S. Department of Education, National Assessment Governing Board, Suite #825, 800 North Capitol Street, NW, Washington, DC, from 8:30 a.m. to 5 p.m. Eastern Standard Time.

Dated: June 6, 2001.
Roy Truby,
Executive Director, National Assessment Governing Board.

[FR Doc. 01-14593 Filed 6-8-01 8:45 am]

BILLING CODE 4000-01-M